ENVIRONMENTAL PROTECTION AGENCY

40 CFR Part 141

[EPA-HQ-OW-2010-0288; FRL-9160-1]

Expedited Approval of Alternative Test Procedures for the Analysis of Contaminants Under the Safe Drinking Water Act; Analysis and Sampling Procedures

AGENCY: Environmental Protection Agency (EPA).

ACTION: Final rule.

SUMMARY: This action announces the Environmental Protection Agency's (EPA's) approval of alternative testing methods for use in measuring the levels of contaminants in drinking water and determining compliance with national primary drinking water regulations. The Safe Drinking Water Act (SDWA) authorizes EPA to approve the use of alternative testing methods through publication in the Federal Register. EPA is using this streamlined authority to make 12 additional methods available for analyzing drinking water samples required by regulation. This expedited approach provides public water systems, laboratories, and primacy agencies with more timely access to new measurement techniques and greater flexibility in the selection of analytical methods, thereby reducing monitoring costs while maintaining public health protection.

DATES: This action is effective June 8, 2010.

FOR FURTHER INFORMATION CONTACT: Safe Drinking Water Hotline (800) 426-4791 or Glynda Smith, Technical Support Center, Office of Ground Water and Drinking Water (MS 140), Environmental Protection Agency, 26 West Martin Luther King Drive, Cincinnati, OH 45268; telephone number: (513) 569-7652; e-mail address: smith.glynda@epa.gov.

SUPPLEMENTARY INFORMATION:

I. General Information

A. Does this action apply to me?

Public water systems are the regulated entities required to measure contaminants in drinking water samples. In addition, EPA Regions as well as States and Tribal governments with authority to administer the regulatory program for public water systems under SDWA may also measure contaminants in water samples. When EPA sets a monitoring requirement in its national primary drinking water regulations for a given contaminant, the Agency also establishes in the regulations standardized test procedures for analysis of the contaminant. This action makes alternative testing methods available for particular drinking water contaminants beyond the testing methods currently established in the regulations. EPA is providing public water systems required to test water samples with a choice of using either a test procedure already established in the existing regulations or an alternative test procedure that has been approved in this action. Categories and entities that may ultimately be affected by this action include:

Category | Examples of potentially regulated entities | NAICS ¹
State, Local, & Tribal Governments | States, local and tribal governments that analyze water samples on behalf of public water systems required to conduct such analysis; States, local and tribal governments that themselves operate community and non-transient non-community water systems required to monitor | 924110
Industry | Private operators of community and non-transient non-community water systems required to monitor | 221310
Municipalities | Municipal operators of community and non-transient non-community water systems required to monitor | 924110
¹ North American Industry Classification System.

This table is not exhaustive, but rather provides a guide for readers regarding entities likely to be affected by this action. This table lists the types of entities that EPA is now aware could potentially be affected by this action. Other types of entities not listed in the table could also be impacted. To determine whether your facility is affected by this action, you should carefully examine the applicability language in the Code of Federal Regulations (CFR) at 40 CFR 141.2 (definition of public water system). If you have questions regarding the applicability of this action to a particular entity, consult the person listed in the preceding FOR FURTHER INFORMATION CONTACT section.

B. How can I get copies of this document and other related information?

Docket. EPA established a docket for this action under Docket ID No. EPA-HQ-OW-2010-0288. Publicly available docket materials are available either electronically through http://www.regulations.gov or in hard copy at the Water Docket in the EPA Docket Center, (EPA/DC) EPA West, Room 3334, 1301 Constitution Ave., NW., Washington, DC. Copyrighted materials are available only in hard copy. The EPA Docket Center Public Reading Room is open from 8:30 a.m. to 4:30 p.m., Monday through Friday, excluding legal holidays. The telephone number for the Public Reading Room is (202) 566-1744, and the telephone number for the Water Docket is (202) 566-2426.

Abbreviations and Acronyms Used in This Action

APHA: American Public Health Association

CFR: Code of Federal Regulations

E. coli: Escherichia coli

EPA: Environmental Protection Agency

GWR: Ground Water Rule

IC-ESI-MS/MS: Ion Chromatography Electrospray Ionization Tandem Mass Spectrometry

NAICS: North American Industry Classification System

NEMI: National Environmental Methods Index

QC: Quality Control

SDWA: Safe Drinking Water Act

TCR: Total Coliform Rule

VCSB: Voluntary Consensus Standard Bodies

II. Background

A. What is the purpose of this action?

In this action, EPA is approving 12 analytical methods for determining contaminant concentrations in samples collected under SDWA. Regulated parties required to sample and monitor may use either the testing methods already established in existing regulations or the alternative testing methods being approved in this action. The new methods are listed in appendix A to subpart C of part 141 and on EPA's drinking water methods Web site at http://www.epa.gov/safewater/methods/analyticalmethods_expedited.html.

This action also includes the full text of three tables in Appendix A to Subpart C of Part 141. The tables do not include any new method approvals. EPA inadvertently deleted two table columns in the November 10, 2009, Federal Register notice (74 FR 57908) (USEPA 2009b). The corrected tables are titled:

• Alternative Testing Methods for Disinfectant Residuals Listed at 40 CFR 141.74(a)(2),

• Alternative Testing Methods for Contaminants Listed at 40 CFR 141.131(b)(1), and

• Alternative Testing Methods for Disinfectant Residuals Listed at 40 CFR 141.131(c)(1).

B. What is the basis for this action?

When EPA determines that an alternative analytical method is “equally effective” (i.e., as effective as a method that has already been promulgated in the regulations), SDWA allows EPA to approve the use of the alternative method through publication in the Federal Register. (See Section 1401(1) of SDWA.) EPA is using this streamlined approval authority to make 12 additional methods available for determining contaminant concentrations in samples collected under SDWA. EPA has determined that, for each contaminant or group of contaminants listed in Section III, the additional testing methods being approved in this action are equally effective as one or more of the testing methods already established in the regulations for those contaminants. Section 1401(1) states that the newly approved methods “shall be treated as an alternative for public water systems to the quality control and testing procedures listed in the regulation.” Accordingly, this action makes these additional (and optional) 12 analytical methods legally available for meeting EPA's monitoring requirements.

This action does not add regulatory language, but does, for informational purposes, update an appendix to the regulations at 40 CFR part 141 that lists all methods approved under Section 1401(1) of SDWA. Accordingly, while this action is not a rule, it is updating CFR text and therefore is being published in the “Final Rules” section of this Federal Register.

EPA described this expedited methods approval process in an April 10, 2007, Federal Register notice (72 FR 17902) (USEPA 2007) and announced its intent to begin using the process. EPA published the first set of approvals in a June 3, 2008, Federal Register notice (73 FR 31616) (USEPA 2008) and added appendix A to 40 CFR part 141, subpart C. Additional methods were added to appendix A to subpart C in an August 3, 2009, Federal Register notice (74 FR 38348) (USEPA 2009a) and a November 10, 2009, Federal Register notice (74 FR 57908) (USEPA 2009b). Future approvals using this process are anticipated.

III. Summary of Approvals

EPA is approving 12 methods that are equally effective relative to methods previously promulgated in the regulations. By means of this notice, these 12 methods are added to appendix A to subpart C of part 141.

A. Methods Developed by EPA

EPA Method 557 is a direct-injection, ion chromatography, negative-ion electrospray ionization, tandem mass spectrometry (IC-ESI-MS/MS) method for the determination of nine haloacetic acids, dalapon, and bromate in finished drinking waters (USEPA 2009c). Each method analyte is qualitatively identified via a unique mass transition, and the concentration is calculated using the integrated peak area and the internal standard technique.

EPA Method 557 eliminates the labor intensive sample preparation steps (extraction and derivatization) that are required in other methods. It also reduces the use of solvents and potentially hazardous chemicals. The development work for this method is described in the method research summary (Zaffiro and Zimmerman 2009). EPA Method 557 has already been approved for determining haloacetic acids and bromate in drinking water (74 FR 57908) (USEPA 2009b); its approval is being expanded in this action to include dalapon.

The approved methods for dalapon are listed at 40 CFR 141.24(e)(1). The performance characteristics of EPA Method 557 for dalapon were compared to the characteristics of approved EPA Methods 552.2 (USEPA 1995), 552.3 (USEPA 2003), and 515.4 (USEPA 2000). EPA has determined that EPA Method 557 is equally effective for measuring dalapon as each one of these three previously approved methods. The basis for this determination is discussed in Smith (2010a). Therefore, EPA is approving EPA Method 557 for determining dalapon in drinking water and adding it to the list of approved methods in appendix A to subpart C of part 141 as an alternative method for contaminants listed at 40 CFR 141.24(e)(1). A copy of EPA Method 557 can be accessed and downloaded directly on-line at http://epa.gov/safewater/methods/analyticalmethods_ogwdw.html.

B. Methods Developed by Voluntary Consensus Standard Bodies (VCSB)

1. Standard Methods for the Examination of Water and Wastewater. In Standard Method 6640 B, chlorinated acids in drinking water are derivatized and analyzed using gas chromatography with electron capture detection. The method uses the identical sample handling protocols, analytical conditions, and quality control (QC) criteria as EPA Method 515.4 (USEPA 2000), which is approved for analyzing compliance samples for dalapon (40 CFR 141.24(e)(1)). EPA has determined that Standard Method 6640 B, published in the 21st edition of Standard Methods for the Examination of Water and Wastewater (APHA 2005), is equally effective relative to EPA Method 515.4 (Smith 2010b) for the analysis of compliance samples for dalapon. EPA has also determined that Standard Method 6640 B-01 (APHA 2001) is an identical on-line version of Standard Method 6640 B. Accordingly, EPA is approving Standard Method 6640 B and Standard Method 6640 B-01 for determining dalapon in drinking water and adding them to the list of approved methods in Appendix A to Subpart C of Part 141 as alternative methods for contaminants listed at 40 CFR 141.24(e)(1). The 21st edition can be obtained from the American Public Health Association (APHA), 800 I Street, NW., Washington, DC 20001-3710. Standard Method 6640 B-01 is available at http://www.standardmethods.org.

2. ASTM International. EPA compared the most recent versions of six ASTM International methods for radiochemicals in water to the versions of those methods that are already approved under 40 CFR 141.25(a). Changes between the approved version and the most recent version of each method are summarized in Umbaugh (2010). The revisions primarily involve editorial changes (i.e., updated references, definitions, terminology, and reorganization of text). The revised methods are the same as the approved versions with respect to drinking water sample collection and handling protocols, sample preparation, analytical methodology, and results. The QC requirements in the revised methods have been expanded and are more detailed than in the previous versions. EPA has determined that the new versions are equally effective relative to those cited in the regulation (ASTM Methods D3454-97, D2460-97, D5174-02, D3649-98a, D4785-00a, and D4107-98 (reapproved 2002)) (Umbaugh 2010). Therefore, EPA is approving the use of the six updated ASTM methods for radiochemicals listed in the following table:

ASTM Method | Contaminant
D3454-05 (ASTM International 2009a) | Radium-226.
D2460-07 (ASTM International 2009b) | Radium-226.
D5174-07 (ASTM International 2009c) | Uranium.
D3649-06 (ASTM International 2009d) | Radioactive Cesium.
| Radioactive Iodine.
| Gamma emitters.
D4785-08 (ASTM International 2009e) | Radioactive Iodine.
| Gamma emitters.
D4107-08 (ASTM International 2009f) | Tritium.

As of today's notice, measurements of radiochemicals in drinking water may be performed using either one of these six methods or one of the methods already approved at 40 CFR 141.25(a). The six ASTM methods are available from ASTM International, 100 Barr Harbor Drive, West Conshohocken, PA 19428-2959 or http://www.astm.org.

C. Methods Developed by Vendors

EPA previously approved by regulation the following alternative methods, which are listed at 40 CFR 141.21(f)(6), for determining Escherichia coli (E. coli) under the Total Coliform Rule (TCR): Readycult® (EMD Chemicals 2007), Chromocult® (EM Science 2000), and Modified Colitag™ (CPI International 2009). These three methods were not approved under the Ground Water Rule (GWR) (71 FR 65574, November 8, 2006) (USEPA 2006), because they were not evaluated by EPA prior to proposal of the GWR. However, these methods were evaluated under the Alternate Test Procedure (ATP) program and EPA determined that the methods were equally effective for E. coli determination relative to Standard Method 9221F (Best 2010), published in the 20th edition of Standard Methods for the Examination of Water and Wastewater (APHA 1998). Standard Method 9221F is approved for E. coli determination under the GWR (40 CFR 141.402(c)(2)). EPA is using today's notice to approve the use of Readycult®, Chromocult®, and Modified Colitag™ to meet E. coli monitoring requirements under GWR and is adding them to the list of approved methods in appendix A to subpart C of part 141 as alternative methods for contaminants listed at 40 CFR 141.402(c)(2).

The 20th edition of Standard Methods for the Examination of Water and Wastewater (1998) is available from the American Public Health Association (APHA), 800 I Street, NW., Washington, DC 20001-3710.

The Readycult® test is described in the document “Readycult® Coliforms 100 Presence/Absence Test for Detection and Identification of Coliform Bacteria and Escherichia coli in Finished Waters, January 2007, Version 1.1,” available from EMD Chemicals (an affiliate of Merck KGaA, Darmstadt Germany), 480 S. Democrat Road, Gibbstown, NJ 08027-1297. (Telephone (800) 222-0342). Internet address http://www.readycult.com.

The Chromocult® test is described in the document “Chromocult® Coliform Agar Presence/Absence Membrane Filter Test Method for Detection and Identification of Coliform Bacteria and Escherichia coli in Finished Waters,” November 2000, Version 1.0, available from EMD Chemicals (formerly EM Science) (an affiliate of Merck KGaA, Darmstadt Germany), 480 S. Democrat Road, Gibbstown, NJ 08027-1297. (Telephone (800) 222-0342).

The Modified Colitag® test is described in the document “Modified Colitag™ Test Method for the Simultaneous Detection of E. coli and other Total Coliforms in Water,” August 28, 2009, available from CPI International, Inc., 5580 Skylane Blvd., Santa Rosa, CA, 95403. (Telephone (800) 878-7654, Fax (707) 545-7901). Internet address http://www.cpiinternational.com.

IV. Statutory and Executive Order Reviews

As noted in Section II, under the terms of SDWA Section 1401(1), this streamlined method approval action is not a rule. Accordingly, the Congressional Review Act, 5 U.S.C. 801 et seq., as added by the Small Business Regulatory Enforcement Fairness Act of 1996, does not apply because this action is not a rule for purposes of 5 U.S.C. 804(3). Similarly, this action is not subject to the Regulatory Flexibility Act because it is not subject to notice and comment requirements under the Administrative Procedure Act or any other statute. In addition, because this approval action is not a rule but simply makes alternative (optional) testing methods available for monitoring under SDWA, EPA has concluded that other statutes and executive orders generally applicable to rulemaking do not apply to this approval action.

V. References

American Public Health Association (APHA). 1998. 20th Edition of Standard Methods for the Examination of Water and Wastewater, American Public Health Association, 800 I Street, NW., Washington, DC 20001-3710.

American Public Health Association (APHA). 2001. Standard Method 6640 B-01. Acidic Herbicide Compounds. Micro Liquid-Liquid Extraction Gas Chromatographic Method. Approved by Standard Methods Committee 2001. Standard Methods Online. (Available at http://www.standardmethods.org.)

American Public Health Association (APHA). 2005. 21st Edition of Standard Methods for the Examination of Water and Wastewater, American Public Health Association, 800 I Street, NW., Washington, DC 20001-3710.

ASTM International. 2009a. ASTM D 3454-05. Standard Test Method for Radium-226 in Water. ASTM International, 100 Barr Harbor Drive, West Conshohocken, PA 19428-2959. (Available at http://www.astm.org.)

ASTM International. 2009b. ASTM D 2460-07. Standard Test Method for Alpha-Particle-Emitting Isotopes of Radium in Water. ASTM International, 100 Barr Harbor Drive, West Conshohocken, PA 19428-2959. (Available at http://www.astm.org.)

ASTM International. 2009c. ASTM D 5174-07. Standard Test Method for Trace Uranium in Water by Pulsed-Laser Phosphorimetry. ASTM International, 100 Barr Harbor Drive, West Conshohocken, PA 19428-2959. (Available at http://www.astm.org.)

ASTM International. 2009d. ASTM D 3649-06. Standard Practice for High-Resolution Gamma-Ray Spectrometry in Water. ASTM International, 100 Barr Harbor Drive, West Conshohocken, PA 19428-2959. (Available at http://www.astm.org.)

ASTM International. 2009e. ASTM D 4785-08. Standard Test Method for Low-Level Analysis of Iodine Radioisotopes in Water. ASTM International, 100 Barr Harbor Drive, West Conshohocken, PA 19428-2959. (Available at http://www.astm.org.)

ASTM International. 2009f. ASTM D 4107-08. Standard Test Method for Tritium in Drinking Water. ASTM International, 100 Barr Harbor Drive, West Conshohocken, PA 19428-2959. (Available at http://www.astm.org.)

Best, J. 2010. Memo to the record describing basis for expedited approval of Modified Colitag™, Readycult®, and Chromocult® methods for determining E. coli as specified at 40 CFR 141.402(c)(2). January 27, 2010.

CPI International. 2009. Modified Colitag™ Method. Modified Colitag™ Test Method for the Simultaneous Detection of E. coli and other Total Coliforms in Water (ATP D05-0035). August 28, 2009. 5580 Skylane Boulevard, Santa Rosa, CA 95403.

EMD Chemicals (affiliate of Merck KGaA, Darmstadt, Germany). 2000. Chromocult® Method. Chromocult® Coliform Agar Presence/Absence Membrane Filter Test Method for Detection and Identification of Coliform Bacteria and Escherichia coli in Finished Waters. November, 2000. Version 1.0. 480 S. Democrat Road, Gibbstown, NJ 08027-1297.

EMD Chemicals (affiliate of Merck KGaA, Darmstadt, Germany). 2007. Readycult® Method. Readycult® Coliforms 100 Presence/Absence Test for Detection and Identification of Coliform Bacteria and Escherichia coli in Finished Waters. January, 2007. Version 1.1. 480 S. Democrat Road, Gibbstown, NJ 08027-1297.

Smith, G. 2010a. Memo to the record describing basis for expedited approval of EPA Method 557 for the analysis of dalapon. January 19, 2010.

Smith, G. 2010b. Memo to the record describing basis for expedited approval of Standard Method 6640 B and 6640 B-01 for the analysis of dalapon. January 27, 2010.

Umbaugh, L. 2010. Memo to the record describing basis for expedited approval of ASTM methods for radiochemicals in water. January 21, 2010.

USEPA. 1995. EPA Method 552.2, Determination of Haloacetic Acids and Dalapon in Drinking Water by Liquid-Liquid Extraction, Derivatization and Gas Chromatography with Electron Capture Detection in Methods for the Determination of Organic Compounds in Drinking Water, Supplement III, EPA/600/R-95-131, August 1995. (Available at http://www.nemi.gov.)

USEPA. 2000. EPA Method 515.4, Determination of Chlorinated Acids in Drinking Water by Liquid-Liquid Extraction, Derivatization, and Fast Gas Chromatography with Electron Capture Detection, EPA 815-B-00-001, April 2000. (Available at http://www.epa.gov/safewater/methods/analyticalmethods_ogwdw.html.)

USEPA. 2003. EPA Method 552.3, Determination of Haloacetic Acids and Dalapon in Drinking Water by Liquid-Liquid Microextraction, Derivatization, and Gas Chromatography with Electron Capture Detection, EPA 815-B-03-002, July 2003. (Available at http://www.epa.gov/safewater/methods/analyticalmethods_ogwdw.html.)

USEPA. 2006. National Primary Drinking Water Regulations: Ground Water Rule; Final Rule. 71 FR 65574. November 8, 2006.

USEPA. 2007. Expedited Approval of Test Procedures for the Analysis of Contaminants Under the Safe Drinking Water Act; Analysis and Sampling Procedures. 72 FR 17902. April 10, 2007.

USEPA. 2008. Expedited Approval of Alternative Test Procedures for the Analysis of Contaminants Under the Safe Drinking Water Act; Analysis and Sampling Procedures. 73 FR 31616. June 3, 2008.

USEPA. 2009a. Expedited Approval of Alternative Test Procedures for the Analysis of Contaminants Under the Safe Drinking Water Act; Analysis and Sampling Procedures. 74 FR 38348. August 3, 2009.

USEPA. 2009b. Expedited Approval of Alternative Test Procedures for the Analysis of Contaminants Under the Safe Drinking Water Act; Analysis and Sampling Procedures. 74 FR 57908. November 10, 2009.

USEPA. 2009c. EPA Method 557. Determination of Haloacetic Acids, Bromate, and Dalapon in Drinking Water by Ion Chromatography Electrospray Ionization Tandem Mass Spectrometry (IC-ESI-MS/MS), EPA 815-B-09-012, September 2009. (Available at http://www.epa.gov/safewater/methods/analyticalmethods_ogwdw.html.)

Zaffiro, A.D. and Zimmerman, M. 2009. EPA Method 557 Research Summary, Shaw Environmental Inc., Cincinnati OH. March 2009.

List of Subjects in 40 CFR Part 141

Chemicals, Environmental protection, Indians-lands, Intergovernmental relations, Radiation protection, Reporting and recordkeeping requirements, Water supply.

Dated: June 2, 2010.
Cynthia C. Dougherty,
Director, Officer of Ground Water and Drinking Water.

For the reasons stated in the preamble, 40 CFR part 141 is amended as follows:

PART 141—NATIONAL PRIMARY DRINKING WATER REGULATIONS

1. The authority citation for part 141 continues to read as follows:

Authority: 42 U.S.C. 300f, 300g-1, 300j-4, and 300j-9.

2. Appendix A to subpart C of part 141 is amended as follows:

a. By adding the entry for “Dalapon” after the entry for “Carbofuran” in the table entitled “Alternative testing methods for contaminants listed at 40 CFR 141.24 (e)(1).”

b. By revising the entries for “Radium 226,” “Uranium,” “Radioactive Cesium,” “Radioactive Iodine,” “Tritium,” and “Gamma Emitters” in the table entitled “Alternative testing methods for contaminants listed at 40 CFR 141.25(a).”

c. By revising all entries in the table entitled “Alternative Testing Methods for Disinfectant Residuals Listed at 40 CFR 141.74(a)(2).”

d. By revising all entries in the table entitled “Alternative Testing Methods for Contaminants Listed at 40 CFR 141.131(b)(1).”

e. By revising all entries in the table entitled “Alternative Testing Methods for Disinfectant Residuals Listed at 40 CFR 141.131(c)(1).”

f. By revising all entries in the table entitled “Alternative Testing Methods for Contaminants Listed at 40 CFR 141.402(c)(2)” and,

g. By adding footnotes 20 and 21 to the table.

Appendix A to Subpart C of Part 141—Alternative Testing Methods Approved for Analyses Under the Safe Drinking Water Act.

* * * * *

Alternative Testing Methods for Contaminants Listed at 40 CFR 141.24(e)(1)
Contaminant | Methodology | EPA method | SM 21st edition ¹ | SM online ³
* * * * * * *
Dalapon | Ion Chromatography Electrospray Ionization Tandem Mass Spectrometry (IC-ESI-MS/MS) | ¹⁴ 557 | 6640 B | 6640 B-01.
* * * * * * *

Alternative Testing Methods for Contaminants Listed at 40 CFR 141.25(a)
Contaminant | Methodology | SM 21st edition ¹ | ASTM ⁴
Naturally Occurring:
| * * * * * * *
Radium 226 | Radon emanation | 7500-Ra C | D3454-05.
| Radiochemical | 7500-Ra B | D2460-07.
| * * * * * * *
Uranium | Radiochemical | 7500-U B |
| ICP-MS |  | D5673-05.
| Alpha spectrometry | 7500-U C |
| Laser Phosphorimetry |  | D5174-07.
Man-Made:
Radioactive Cesium | Radiochemical | 7500-Cs B |
| Gamma Ray Spectrometry | 7120 | D3649-06.
Radioactive Iodine | Radiochemical | 7500-I B | D3649-06.
|  | 7500-I C
|  | 7500-I D
| Gamma Ray Spectrometry | 7120 | D4785-08.
| * * * * * * *
Tritium | Liquid Scintillation | 7500⁻³H B | D4107-08.
Gamma Emitters | Gamma Ray Spectrometry | 7120 | D3649-06.
|  | 7500-Cs B | D4785-08.
|  | 7500-I B

* * * * *

* *

Alternative Testing Methods for Disinfectant Residuals Listed at 40 CFR 141.74(a)(2)
Residual | Methodology | SM 21st Edition ¹ | ASTM ⁴ | Other
Free Chlorine | Amperometric Titration | 4500-Cl D | D 1253-08
| DPD Ferrous Titrimetric | 4500-Cl F
| DPD Colorimetric | 4500-Cl G
| Syringaldazine (FACTS) | 4500-Cl H
| On-line Chlorine Analyzer |  |  | EPA 334.0.¹⁶
| Amperometric Sensor |  |  | ChloroSense.¹⁷
Total Chlorine | Amperometric Titration | 4500-Cl D | D 1253-08
| Amperometric Titration (Low level measurement) | 4500-Cl E
| DPD Ferrous Titrimetric | 4500-Cl F
| DPD Colorimetric | 4500-Cl G
| Iodometric Electrode | 4500-Cl I
| On-line Chlorine Analyzer |  |  | EPA 334.0.¹⁶
| Amperometric Sensor |  |  | ChloroSense.¹⁷
Chlorine Dioxide | Amperometric Titration | 4500-ClO2 C
| Amperometric Titration | 4500-ClO2 E
Ozone | Indigo Method | 4500-O3 B

Alternative Testing Methods for Contaminants Listed at 40 CFR 141.131(b)(1)
Contaminant | Methodology | EPA Method | ASTM ⁴ | SM 21st Edition ¹
TTHM | P&T/GC/MS | ⁹ 524.3
HAA5 | LLE (diazomethane)/GC/ECD |  |  | 6251 B.
| Ion Chromatography Electrospray Ionization Tandem Mass Spectrometry (IC-ESI-MS/MS) | ¹⁴ 557
Bromate | Two-Dimensional Ion Chromatography (IC) | ¹⁸ 302.0
| Ion Chromatography Electrospray Ionization Tandem Mass Spectrometry (IC-ESI-MS/MS) | ¹⁴ 557
| Chemically Suppressed Ion Chromatography |  | D 6581-08 A. |
| Electrolytically Suppressed Ion Chromatography |  | D 6581-08 B. |
Chlorite | Chemically Suppressed Ion Chromatography |  | D 6581-08 A.
| Electrolytically Suppressed Ion Chromatography |  | D 6581-08 B.
Chlorite—daily monitoring as prescribed in 40 CFR 141.132(b)(2)(i)(A). | Amperometric Titration |  |  | 4500-ClO2 E.

Alternative Testing Methods for Disinfectant Residuals Listed at 40 CFR 141.131(c)(1)
Residual | Methodology | SM 21st Edition ¹ | ASTM ⁴ | Other
Free Chlorine | Amperometric Titration | 4500-Cl D | D 1253-08 |
| DPD Ferrous Titrimetric | 4500-Cl F
| DPD Colorimetric | 4500-Cl G
| Syringaldazine (FACTS) | 4500-Cl H
| Amperometric Sensor |  |  | ChloroSense.¹⁷
| On-line Chlorine Analyzer |  |  | EPA 334.0.¹⁶
Combined Chlorine | Amperometric Titration | 4500-Cl D | D 1253-08
| DPD Ferrous Titrimetric | 4500-Cl F
| DPD Colorimetric | 4500-Cl G
Total Chlorine | Amperometric Titration | 4500-Cl D | D 1253-08
| Low level Amperometric Titration | 4500-Cl E
| DPD Ferrous Titrimetric | 4500-Cl F
| DPD Colorimetric | 4500-Cl G
| Iodometric Electrode | 4500-Cl I
| Amperometric Sensor |  |  | ChloroSense.¹⁷
| On-line Chlorine Analyzer |  |  | EPA 334.0.¹⁶
Chlorine Dioxide | Amperometric Method II | 4500-ClO2 E.

* * * * *

Alternative Testing Methods for Contaminants Listed at 40 CFR 141.402(c)(2)
Organism | Methodology | SM 20th edition ⁶ | SM 21st edition ¹ | SM online ³ | Other
E. coli | Colilert |  | 9223 B | 9223 B-97
| Colisure |  | 9223 B | 9223 B-97
| Colilert-18 | 9223 B | 9223 B | 9223 B-97
| Readycult® |  |  |  | Readycult®.²⁰
| Colitag |  |  |  | Modified Colitag™.¹³
| Chromocult® |  |  |  | Chromocult®.²¹
Enterococci | Multiple-Tube Technique |  |  | 9230 B-04
* * * * *
¹ Standard Methods for the Examination of Water and Wastewater, 21st edition (2005). Available from American Public Health Association, 800 I Street, NW., Washington, DC 20001-3710.
* * * * *
³ Standard Methods Online are available at http://www.standardmethods.org. The year in which each method was approved by the Standard Methods Committee is designated by the last two digits in the method number. The methods listed are the only online versions that may be used.
⁴ Available from ASTM International, 100 Barr Harbor Drive, West Conshohocken, PA 19428-2959 or http://astm.org. The methods listed are the only alternative versions that may be used.
* * * * *
⁶ Standard Methods for the Examination of Water and Wastewater, 20th edition (1998). Available from American Public Health Association, 800 I Street, NW., Washington, DC 20001-3710.
* * * * *
⁹ EPA Method 524.3, Version 1.0. “Measurement of Purgeable Organic Compounds in Water by Capillary Column Gas Chromatography/Mass Spectrometry,” June 2009. EPA 815-B-09-009. Available at http://epa.gov/safewater/methods/analyticalmethods_ogwdw.html.
* * * * *
¹³ Modified Colitag™; Method, “Modified Colitag™ Test Method for the Simultaneous Detection of E. coli and other Total Coliforms in Water (ATP D05-0035),” August 28, 2009. Available at http://www.nemi.gov or from CPI International, 5580 Skylane Boulevard, Santa Rosa, CA 95403.
¹⁴ EPA Method 557. “Determination of Haloacetic Acids, Bromate, and Dalapon in Drinking Water by Ion Chromatography Electrospray Ionization Tandem Mass Spectrometry (IC-ESI-MS/MS),” September 2009. EPA 815-B-09-012. Available at http://epa.gov/safewater/methods/analyticalmethods_ogwdw.html.
* * * * *
¹⁶ EPA Method 334.0. “Determination of Residual Chlorine in Drinking Water Using an On-line Chlorine Analyzer,” September 2009. EPA 815-B-09-013. Available at http://epa.gov/safewater/methods/analyticalmethods_ogwdw.html.
¹⁷ ChloroSense. “Measurement of Free and Total Chlorine in Drinking Water by Palintest ChloroSense,” August 2009. Available at http://www.nemi.gov or from Palintest Ltd, 21 Kenton Lands Road, PO Box 18395, Erlanger, KY 41018.
¹⁸ EPA Method 302.0. “Determination of Bromate in Drinking Water using Two-Dimensional Ion Chromatography with Suppressed Conductivity Detection,” September 2009. EPA 815-B-09-014. Available at http://epa.gov/safewater/methods/analyticalmethods_ogwdw.html.
* * * * *
²⁰ Readycult® Method, “Readycult® Coliforms 100 Presence/Absence Test for Detection and Identification of Coliform Bacteria and Escherichia coli in Finished Waters,” January, 2007. Version 1.1. Available from EMD Chemicals (affiliate of Merck KGaA, Darmstadt, Germany), 480 S. Democrat Road, Gibbstown, NJ 08027-1297.
²¹ Chromocult® Method, “Chromocult® Coliform Agar Presence/Absence Membrane Filter Test Method for Detection and Identification of Coliform Bacteria and Escherichia coli in Finished Waters,” November, 2000. Version 1.0. EMD Chemicals (affiliate of Merck KGaA, Darmstadt, Germany), 480 S. Democrat Road, Gibbstown, NJ 08027-1297.

[FR Doc. 2010-13685 Filed 6-7-10; 8:45 am]

BILLING CODE 6560-50-P